DEPARTMENT OF DEFENSE

Department of the Army; Corps of Engineers

Intent To Prepare Draft Environmental Impact Statement for Updated Water Control Manuals for the Apalachicola-Chattahoochee-Flint River Basin

AGENCY: Department of the Army, U.S. Army Corps of Engineers, DoD.

ACTION: Notice of intent.

SUMMARY: The U.S. Army Corps of Engineers (Corps), Mobile District, intends to prepare an update and revision of the water control manuals for the Apalachicola-Chattahoochee-Flint (ACF) River Basin. Concurrent with that revision, a Draft Environmental Impact Statement (EIS) will be prepared, as required by the National Environmental Policy Act (NEPA). The Draft EIS will address updated operating criteria and guidelines for managing the water storage and release actions of agency water managers and associated environmental impacts.

FOR FURTHER INFORMATION CONTACT: Questions about the manual update or NEPA process can be answered by: Mr. Brian Zettle, Inland Environment Team, Environment and Resources Branch, Planning and Environmental Division, U.S. Army Engineer District-Mobile, Post Office Box 2288, Mobile, AL 36628-0001; Telephone (251) 690-2115; or delivered by electronic facsimile at (251) 694-3815; or E-mail: brian.a.zettle@usace.army.mil. You may also request to be included on the mailing list for public distribution of notices, meeting announcements and documents associated with the preparation and review of the Draft EIS.

SUPPLEMENTARY INFORMATION: Background. Water control manuals are guidance documents that assist Federal water managers in the operation of individual and multiple interdependent Federal reservoirs on the same river system. They provide technical, historical, hydrological, geographic, demographic, policy and other information that guide the proper management of reservoirs during times of high water, low water, and normal conditions. The manuals contain water control plans for each of the reservoirs within the basin system and specify how the various reservoir projects will be operated as a balanced system. The manuals also contain drought plans and zones to assist Federal water managers in knowing when to reduce or increase reservoir releases and conserve storage in the Federal reservoirs, and how to ensure the safety of dams during extreme conditions such as floods. The authority and guidance for the Corps to prepare and update these manuals may be found in Section 7 of the 1944 Flood Control Act, and the following Corps of Engineer Regulations: ER 1110-2-240, ER 1110-2-241, ER 1110-2-1941 and ER 1110-2-8156.

The ACF Basin provides water resources for multiple purposes from northwestern GA down, along the Alabama-Georgia border and then into Florida and the Gulf Coast at Apalachicola Bay, extending a distance of approximately 540 miles along the Chattahoochee and Apalachicola Rivers and an additional 350 miles on the Flint River, and encompassing an area of approximately 19,600 square miles. The master operating manual for the ACF River Basin dates to 1958, prior to the completion of most of the reservoir projects in the basin, and the individual reservoir project water control manuals were last updated at various dates as far back as the 1970s and 1980s, with primarily administrative updates approved in the 1990s. There are 16 major dams and reservoirs (five Federal and 11 non-Federal) located in the basin. The Federal projects owned and operated by the Corps include Buford Dam and Lake Lanier, West Point Dam and Lake, Walter F. George Dam and Lake, George W. Andrews Dam and Lake located on the Chattahoochee River; and Jim Woodruff Dam and Lake Seminole located on the Apalachicola River at the confluence of the Chattahoochee and Flint River. The authorized project purposes at the Corps lakes include flood control, hydropower, navigation, water supply, water quality, fish and wildlife conservation, and recreation.

Other non-Federal reservoirs located on the Chattahoochee River and Flint River include power projects owned and operated by the Georgia Power Company and Crisp County, Georgia. The non-Federal power lakes are primarily run-of-river projects that do not impact Federal project operations significantly, but operations between the Georgia Power projects and the Federal projects are coordinated as necessary to meet downstream water quality and water supply demands.

In 1989, a draft master manual for the ACF basin was proposed which described operations current at that time. This draft manual was never finalized due to the initiation of litigation by the State of Alabama, which is still ongoing. However, since that time, Corps operations have continued to conform with the operations described in the 1989 draft manual and other more recently updated water control manuals for the various Federal projects. The new manuals will eventually replace any current ones and will address the basin-wide management of those water resources.

Public participation throughout the water control manual revision process is essential. The Corps invites full public participation at all stages to promote open communication and better decision making. All persons, stakeholders, and organizations that have an interest in water-related resources in the ACF basin, including minority, low-income, disadvantaged and Native American groups, are urged to participate in this NEPA environmental analysis process. Assistance will be provided upon request to anyone having difficulty understanding how to participate. Dates and locations for public scoping meetings will be announced by future publication in the Federal Register and in the local news media. Tentative dates for publication of the draft water control manuals and EIS and other opportunities for public involvement will also be announced at that time. Public comments are welcomed anytime throughout the NEPA process.

Cooperating Agencies. The lead responsibility for this action rests with the Corps. The Corps intends to coordinate and/or consult with an interagency team of Federal and State agencies during scoping and preparation of the draft EIS. A decision will be made during the scoping process whether other agencies will serve in an official role as cooperating agencies.

Scoping. The Alabama-Coosa-Tallapoosa Rivers (ACT)/Apalachicola-Chattahoochee-Flint Rivers (ACF) Comprehensive Study from 1990 to 1997 and ACF Compact negotiations from 1997 to 2004 involved the States (Alabama, Florida and Georgia), stakeholders and the public in identifying areas of concern; collecting and developing water resource, environmental, and socioeconomic data; and developing tools to assist in decisions affecting water resources within the two basins. Development of the updated water control manuals and scoping for this EIS will continue to build upon the knowledge and information developed during the Comprehensive Study and subsequent Compact negotiations. Scoping meetings were also held in the fall of 2006 associated with initiation of a draft EIS for the Lake Lanier Interim Storage Contracts associated with the Southeastern Federal Power Customers, Inc. vs. the Secretary of the Army settlement agreement, and information gathered during this scoping process will also contribute to the information base for the ACF water control manual EIS. Additional scoping meetings or workshops with agencies and stakeholder groups will be scheduled to identify significant issues and data gaps, focus on the alternatives to be evaluated, and to identify appropriate tools to assist in the evaluation of alternatives and analysis of impacts.

Dated: February 13, 2008.
R. Daren Payne,
Lieutenant Colonel, Corps of Engineers, Acting District Commander.

[FR Doc. E8-3315 Filed 2-21-08; 8:45 am]

BILLING CODE 3710-CR-P